DEPARTMENT OF HOMELAND SECURITY

[Docket No. DHS-2015-0017]

Information Sharing and Analysis Organization

AGENCY: Department of Homeland Security.

ACTION: Notice of public forum and request for public comment.

SUMMARY: This Notice announces a fourth public meeting for the Information Sharing and Analysis Organization (ISAO) Standards Organization (SO) on August 31 and September 1, 2016 in Tysons, VA. Additionally, this notice announces a second request for public comment on draft products produced by the ISAO SO. This is the second iteration of draft products that will be used in the development of voluntary standards for Information Sharing and Analysis Organizations (ISAOs) as they relate to E.O. 13691. These drafts have been updated, revised and consolidated from the first drafts released in May 2016.

DATES: The ISAO SO Public Forum will be held on August 31 and September 1, 2016 in Tysons, VA. The comment period for the second iteration of the SO draft voluntary standards for ISAOs will be open until Friday, August 5, 2016. Comments will continue to be accepted after this date, but may not be reflected until later iterations of draft standards documents.

FOR FURTHER INFORMATION CONTACT: If you have questions concerning the draft voluntary standards documents, please contact the ISAO Standards Organization at Contact@ISAO.org.

SUPPLEMENTARY INFORMATION:

Background and Purpose

On February 13, 2015, President Obama signed E.O. 13691 intended to enable and facilitate “private companies, nonprofit organizations, and executive departments and agencies . . . to share information related to cybersecurity risks and incidents and collaborate to respond in as close to real time as possible.”

In accordance with E.O. 13691, DHS has entered into a cooperative agreement with a non-governmental ISAO SO led by the University of Texas at San Antonio with support from the Logistics Management Institute (LMI) and the Retail Cyber Intelligence Sharing Center (R-CISC). The ISAO SO is working with existing information sharing organizations, owners and operators of critical infrastructure, relevant agencies, and other public and private sector stakeholders to identify a common set of voluntary standards or guidelines for the creation and functioning of ISAOs.

As part of this collaborative, transparent, and industry-driven process, the ISAO SO has established six working groups to assist in the development of voluntary standards. As part of the standards development process, the ISAO SO hosts public forums. This notice is to provide further information regarding the August 31 and September 1, 2016 public forum in Tysons, VA.

Additionally, this notice is to request comment on the Standards Organization's draft products. These drafts consolidate previous separate documents, comments and newly developed material. Your participation in this comment process is highly encouraged to ensure all equities are being met. To join a working group or to find out how else you can best participate, please visit www.ISAO.org or email Contact@ISAO.org.

Meeting Details

To view the agenda and further details on the corresponding August 31 and September 1, 2016 in person meeting in Tysons, VA, please visit www.ISAO.org. These meetings will be held at LMI Headquarters (7940 Jones Branch Drive, Tysons, VA).

Submitting Written Comments

The second draft documents can be found and comments submitted directly to the ISAO SO at https://www.ISAO.org/products/drafts/. This method is preferred by the ISAO SO.

You may also submit written comments to the docket using one of the following methods:

(1) Federal eRulemaking Portal: http://www.regulations.gov. Although this is not a rulemaking action, comments are being submitted to the Federal eRulemaking Portal in an effort to provide transparency to the general public.

(2) Email: Contact@ISAO.org. Include the docket number in the subject line of the message.

(3) Mail: ISAO Standards Organization, c/o LMI, 1777 NE. Loop 410, Suite 808, San Antonio, TX 78217-5217.

To avoid duplication, please use only one of these four methods. All comments must either be submitted to the online docket on or before August 5, 2016, or reach the Docket Management Facility by that date.

Comments may be submitted directly to the ISAO SO using the method described above after August 5, 2016. However, these comments may not be reflected until later iterations of draft standards documents.

References

Executive Order 13691 can be found at: https://www.whitehouse.gov/the-press-office/2015/02/13/executive-order-promoting-private-sector-cybersecurity-information-shari.

For additional information about the ISAO SO, draft products, and how you can best participate in the standards development process, please go to www.ISAO.org or email Contact@ISAO.org.

Authority: 6 U.S.C. 131-134; 6 CFR 29; E.O.13691.

Dated: August 1, 2016.
Andy Ozment,
Assistant Secretary, Cybersecurity and Communications, National Protection and Programs Directorate, Department of Homeland Security.

[FR Doc. 2016-18557 Filed 8-4-16; 8:45 am]

BILLING CODE 9110-9P-P